SMALL BUSINESS ADMINISTRATION

[Declaration of Disaster #3508, Amdt. #1]

Commonwealth of Kentucky

In accordance with notices received from the Department of Homeland Security—Federal Emergency Management Agency, effective June 12 and June 13, 2003, the above numbered declaration is hereby amended to include Estill, Madison, Owsley and Perry Counties in the State of Kentucky as disaster areas due to damages caused by severe storms, flooding, mud and rock slides, and tornadoes occurring on May 4 through May 27, 2003.

In addition, applications for economic injury loans from small businesses located in the contiguous counties of Breathitt, Clark, Clay, Harlan, Jackson, Knott, Lee, Leslie, Letcher and Powell in the State of Kentucky may be filed until the specified date at the previously designated location. All other counties contiguous to the above named primary counties have been previously declared.

All other information remains the same, i.e., the deadline for filing applications for physical damage is August 4, 2003, and for economic injury the deadline is March 3, 2004.

(Catalog of Federal Domestic Assistance Program Nos. 59002 and 59008)
Dated: June 16, 2003.
Herbert L. Mitchell,
Associate Administrator for Disaster Assistance.

[FR Doc. 03-15811 Filed 6-20-03; 8:45 am]

BILLING CODE 8025-01-P